Proclamation 8787 of March 23, 2012

Greek Independence Day: A National Day of Celebration of Greek and American Democracy, 2012

By the President of the United States of America

A Proclamation

Two hundred and thirty-six years ago, a new American Nation was founded on an old Greek principle—democratic rule by a free people. We trace this enduring idea to ancient Hellas, where Greeks brought forth the world’s first democracy and kindled a philosophical tradition that would stand the test of time. Over two millennia later, the Greek people rose up to reclaim their heritage as citizens of a sovereign nation. Today, on the 191st anniversary of Greece’s independence, we commemorate that struggle to restore democracy in its birthplace, renew the bonds that bring our countries together, and celebrate the Hellenic ideals that continue to shape the American experience.

As America’s Founders built a Government of the people, by the people, and for the people, they drew inspiration from the democratic pioneers who shaped a small group of ancient Greek city states. In the years since, Greece and America have strengthened that connection through shared history and deep partnerships between our people. During the American Civil War, Greek Americans served and fought to preserve our Union. Through two World Wars and a long Cold War, America and Greece stood as allies in the pursuit of peace. And for generations, Greek Americans have profoundly enriched our national life. They stand as leaders in every field and every part of our society, and their cultural legacy still echoes in classrooms, courtrooms, and communities across our Nation.

On Greek Independence Day, we commemorate the proud traditions that tie our nations together and honor all those who trace their lineage to the Hellenic Republic. Nearly 200 years after the Greek people won their war to return democracy to their homeland and become a sovereign state, we reaffirm the warm friendship and solidarity that will guide our work together in the years ahead.

NOW, THEREFORE, I, BARACK OBAMA, President of the United States of America, by virtue of the authority vested in me by the Constitution and the laws of the United States, do hereby proclaim March 25, 2012, as Greek Independence Day: A National Day of Celebration of Greek and American Democracy. I call upon all the people of the United States to observe this day with appropriate ceremonies and activities.

IN WITNESS WHEREOF, I have hereunto set my hand this twenty-third day of March, in the year of our Lord two thousand twelve, and of the Independence of the United States of America the two hundred and thirty-sixth.

[FR Doc. 2012-7640

Filed 3-27-12; 11:15 am]

Billing code 3295-F2-P